ELECTION ASSISTANCE COMMISSION

[Notice 2007-42]

Consideration of Administrative Transfer of national Voter Registration Act Regulations

AGENCY: Election Assistance Commission.

ACTION: Notice: Request for Public Comment.

SUMMARY: The Help America Vote Act of 2002 (Pub. L. 107-252, 116 Stat. 1727, 42 U.S.C. 15532) transferred authority to promulgate regulations under the National Voter Registration Act of 1993 (NVRA) (Pub. L. 93-31, 197 Stat. 77, 42 U.S.C. 1973gg-1 et. seq. at 41 U.S.C. 1973gg-7(a)) from the Federal Election Commission (FEC) to the Election Assistance Commission (EAC). The EAC is presently considering the administrative transfer of NVRA regulations previously adopted and maintained by the FEC. These regulations are currently located at 11 CFR Part 8. In accordance with the Administrative Procedures Act (APA), this administrative transfer of the regulations would make no substantive changes to the FEC regulations and would be made without public comment. The only changes made would be technical, such as the address and contact information for the responsible agency. Following this administrative transfer of the regulations, the EAC would begin efforts to substantively amend the rules. This rulemaking process would include substantial public involvement, including public notice and comment pursuant to the APA. The EAC currently seeks public comment on whether the agency should administratively transfer regulations previously adopted and maintained by the FEC regarding the NVRA, currently located at 11 CFR Part 8, and then substantively amend those rules. Please note that the EAC does not seek substantive comment on the content of the existing regulations or potential modifications to the regulations.

DATES: Comments must be received on or before 4 p.m. on December 3, 2007.

ADDRESSES: Comments must be submitted in either electronic or written form. Comments may be submitted online at http://www.eac.gov. Commenters are encouraged to submit comments electronically to ensure timely receipt and consideration. Written comments should be sent to: NVRA Comments, Election Administration Support Division, U.S. Election Assistance Commission, 1225 New York Ave., NW., Suite 1100, Washington, DC 20005.

FOR FURTHER INFORMATION CONTACT: Mr. Edgardo Cortés, Election Research Specialist, (202) 566-3100 or toll-free (866) 747-1471.

SUPPLEMENTARY INFORMATION: The National Voter Registration Act of 1993 (NVRA), Pub. L. 93-31, 197 Stat. 77, 42 U.S.C. 1973gg-1 et. seq, at 42 U.S.C. 1973gg-7(a) required the Federal Election Commission (FEC) to issue regulations to develop a national mail voter registration form for elections to Federal office, and to submit to Congress no later than June 30 of each odd-numbered year (beginning June 30, 1995) a report that assesses the impact of the NVRA and recommends improvements in Federal and State procedures, forms, and other matters affected by the NVRA. The FEC published an Advance Notice of Proposed Rulemaking in connection with the NVRA rulemaking on September 30, 1993 (58 FR 51132), and Notice of Proposed Rulemaking on March 10, 1994 (59 FR 11211). Following a public notice and comment rulemaking, the FEC issued rules implementing these requirements on June 23, 1994. 59 FR 32323.

Section 802 of the Help America Vote Act of 2002 (HAVA), Pub. L. 107-252, 116 Stat. 1727, 42 U.S.C. 15532, transferred the FEC's responsibilities under the NVRA to the Election Assistance Commission (EAC) but it did not transfer the FEC's previously adopted regulations. In order to carry out the functions listed in section 9(a) of the NVRA [42 U.S.C. 1973gg-7(a)], the EAC must promulgate regulations. The EAC currently seeks public comment on whether the agency should administratively transfer regulations previously adopted and maintained by the FEC regarding the NVRA. The administrative transfer would move the existing FEC regulations (11 CFR Part 8) to the EAC's Code of Federal Regulations site and only make technical changes to the mailing address and contact information for the agency. EAC believes that good cause exists for adopting the FEC rules as final EAC rules without public notice and comment under 5 U.S.C. 553 because this rule only reflects an administrative transfer of functions required by HAVA. No substantive changes will be made to the rules, which have already been subject to public notice and comment. Similarly, because this final rule is a recodification of existing regulations, it would not be subject to the effective date limitation of 5 U.S.C. 5539d). After the proposed administrative transfer of the regulations, the EAC would take steps to substantively amend the rules, which would significantly involve the public and include an opportunity for public notice and comment pursuant to the Administrative Procedures Act (APA).

Again, the EAC is seeking comment on its proposed plan to first administratively transfer and then substantively amend the NVRA rules located at 11 CFR Part 8. At this time, the EAC does not seek comment on the substance of the regulations. As such, this notice and request for public comment is not required by or made pursuant to the APA.

After review of the public comments received pursuant to this notice, the EAC will decide whether to administratively transfer the regulations and then substantively modify them, as described above. If this process is not adopted, the EAC will alternatively initiate a rule making process under 5 U.S.C. 553 independent of the FEC rules. In either scenario, EAC will follow all the rulemaking requirements of the APA, which allows for extensive public comment and transparency in the regulatory process.

Thomas R. Wilkey,
Executive Director, U.S. Election Assistance Commission.

[FR Doc. 07-5447 Filed 10-30-07; 9:30 am]

BILLING CODE 6820-KF-M